DEPARTMENT OF DEFENSE

National Security Agency

Notice of Intent To Grant an Exclusive License; Doar, Pekuin, Sall Limited Liability Company

AGENCY: National Security Agency, DoD.

ACTION: Notice.

SUMMARY: The National Security Agency hereby gives notice of its intent to grant Doar, Pekuin, Sall Limited Liability Company a revocable, non-assignable, exclusive, license to practice the following Government-Owned invention as described in U.S. Patent No. 6,404,407 entitled “Ridge laser with oxidized strain-compensated superlattice of group III-V semiconductor.” The invention is assigned to the United States Government as represented by the National Security Agency.

DATES: Anyone wishing to object to the grant of this license has fifteen (15) days from the publication date of this notice to file written objections along with any supporting evidence, if any.

ADDRESSES: Written objections are to be filed with the National Security Agency Technology Transfer Program, 9800 Savage Road, Suite 6541, Fort George G. Meade, MD 20755-6541.

FOR FURTHER INFORMATION CONTACT: Marian T. Roche, Director, Technology Transfer Program, 9800 Savage Road, Suite 6541, Fort George G. Meade, MD 20755-6541, telephone (443) 479-9569.

Dated: August 25, 2010.
Mitchell S. Bryman,
Alternate OSD Federal Register Liaison Officer, Department of Defense.

[FR Doc. 2010-21540 Filed 8-27-10; 8:45 am]

BILLING CODE 5001-06-P